INTERNATIONAL TRADE COMMISSION

[Investigation Nos. 704-TA-1 and 734-TA-1 (Review)]

Sugar from Mexico; Determinations

On the basis of the record ¹ developed in the subject reviews, the United States International Trade Commission (“Commission”) determines, pursuant to sections 704(h) and 734(h) of the Tariff Act of 1930 (19 U.S.C. 1671c(h) and 1673c(h)) (“the Act”), that agreements the U.S. Department of Commerce (“Commerce”) has entered into with Mexican exporters of sugar and the government of Mexico suspending antidumping and countervailing duty investigations concerning sugar from Mexico eliminate completely the injurious effect of subject imports.²

¹ The record is defined in sec. 207.2(f) of the Commission's Rules of Practice and Procedure (19 CFR 207.2(f)).

² All six Commissioners voted in the affirmative.

Background

The Commission instituted these investigations effective January 8, 2015, following receipt of a petition filed with the Commission by Imperial Sugar Company (“Imperial”), Sugar Land, Texas and AmCane Sugar LLC (“AmCane”), Taylor, Michigan. The Commission determined that Imperial and AmCane are interested parties who were parties to the underlying investigations at the time the petitions were filed, and consequently are appropriate petitioning parties. Notice of the scheduling of these reviews and of a public oral presentation to be held in connection therewith was given by posting copies of the notice in the Office of the Secretary, U.S. International Trade Commission, Washington, DC, and by publishing the notice in the Federal Register on January 26, 2015 (80 FR 3977). The oral presentation was held in Washington, DC, on February 19, 2015, and all persons who requested the opportunity were permitted to appear in person or by counsel.

The Commission completed and filed its determination in these reviews on March 24, 2015. The views of the Commission are contained in USITC Publication 4523 (April 2015), entitled Sugar From Mexico: Investigation Nos. 704-TA-1 and 734-TA-1 (Review).

By order of the Commission.
Issued: March 24, 2015.
Lisa R. Barton,
Secretary to the Commission.

[FR Doc. 2015-07071 Filed 3-26-15; 8:45 am]

BILLING CODE 7020-02-P